DEPARTMENT OF DEFENSE

Office of the Secretary

[Docket ID: DoD-2024-OS-0042]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by June 2, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Military Child Development Program Workforce Survey; OMB Control Number 0704-MCDS.

Type of Request: New.

CDP Staffing Survey

Number of Respondents: 5,232.

Responses per Respondent: 1.

Annual Responses: 5,232.

Average Burden per Response: 20 minutes.

Annual Burden Hours: 1,744.

CDP Case Study and Intake Form

Number of Respondents: 162.

Responses per Respondent: 1.

Annual Responses: 162.

Average Burden per Response: 29 minutes.

Annual Burden Hours: 78.3.

Total

Total Number of Respondents: 5,394.

Total Number of Annual Responses: 5,394.

Total Respondent Burden Hours: 1,822.

Needs and Uses: This project is needed to analyze, identify, and offer solutions for factors contributing to the staffing issues to support DoD in making informed decisions on ways to improve the strategies to recruit, train, and retain qualified staff within the CDP.

Affected Public: Individuals or households; Federal Government.

Frequency: Once.

Respondent's Obligation: Voluntary.

DOD Clearance Officer: Mr. Reginald Lucas.

Dated: April 28, 2025.
Aaron T. Siegel,
Alternate OSD Federal Register Liaison Officer, Department of Defense.

[FR Doc. 2025-07615 Filed 5-1-25; 8:45 am]

BILLING CODE 6001-FR-P